DEPARTMENT OF COMMERCE

Foreign-Trade Zones Board

[Order No. 2019]

Reorganization of Foreign-Trade Zone 17; (Expansion of Service Area) Under Alternative Site Framework; Kansas City, Kansas

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the Greater Kansas City Foreign Trade Zone, Inc., grantee of Foreign-Trade Zone 17, submitted an application to the Board (FTZ Docket B-16-2016, docketed March 31, 2016) for authority to expand the service area of the zone to include Atchison, Jefferson and Franklin Counties, Kansas, as described in the application, adjacent to the Kansas City Customs and Border Protection port of entry;

Whereas, notice inviting public comment was given in the Federal Register (81 FR 19551-19552, April 5, 2016) and the application has been processed pursuant to the FTZ Act and the Board's regulations; and,

Whereas, the Board adopts the findings and recommendations of the examiner's report, and finds that the requirements of the FTZ Act and the Board's regulations are satisfied;

Now, Therefore, the Board hereby orders:

The application to reorganize FTZ 17 to expand the service area under the ASF is approved, subject to the FTZ Act and the Board's regulations, including Section 400.13, and to the Board's standard 2,000-acre activation limit for the zone.

Signed at Washington, DC, this 29 day of November 2016.
Paul Piquado,
Assistant Secretary of Commerce for Enforcement and Compliance, Alternate Chairman, Foreign-Trade Zones Board.
ATTEST:
Andrew McGilvray,
Executive Secretary.

[FR Doc. 2016-29356 Filed 12-6-16; 8:45 am]

BILLING CODE 3510-DS-P